DEPARTMENT OF HEALTH AND HUMAN SERVICES

Centers for Medicare & Medicaid Services

[Document Identifier: CMS-10464]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New Collection; Title of Information Collection: Agent/broker data collection in Federally Facilitated Health Insurance Exchanges; Use: CMS will collect data, including licensure and personally identifiable information, from agent/brokers to register them with the federally-facilitated exchange (FFE) through the Exchange Portal. A key component of the registration process requiring data collection is verifying the agent/broker's licensure status, as well as any issuer appointments. Agents/brokers will enter basic identifying information on the Exchange Portal during the initial registration phase. Once registration is successfully completed, agent/brokers will be routed to CMS' LMS to access and complete required training and exams. The user names and zip codes that agent/brokers provided during training will be used to record their training history through CMS LMS, and communicate training results with the Exchange Portal. As accompanying modules demonstrate, the training and exams will ensure agent/brokers possess the basic knowledge required to enroll individuals and small business health options plan (SHOP) employers/employees through the Exchange.

Additionally, CMS will use the collected data for oversight and monitoring of agent/brokers, and to ensure compliance with the ACA provisions under 45 CFR 155.220. If CMS detects anomalies, CMS will follow-up to resolve issues, as necessary. Form Number: CMS-10464 (OCN: 0938-NEW); Frequency: Annually; Affected Public: Private Sector: Business or other for-profits; Number of Respondents: 254,095; Total Annual Responses: 254,095; Total Annual Hours: 1,206,951. (For policy questions regarding this collection contact Barry Brauth at 301-492-4299. For all other issues call 410-786-1326.)

To obtain copies of the supporting statement and any related forms for the proposed paperwork collections referenced above, access CMS' Web site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by April 8, 2013:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: CMS-10464/OCN-0938-NEW, Room C4-26-05, 7500 Security Boulevard, Baltimore, Maryland 21244-1850.

Dated: February 3, 2013.
Martique Jones,
Deputy Director, Regulations Development Group, Office of Strategic Operations and Regulatory Affairs.

[FR Doc. 2013-02714 Filed 2-6-13; 8:45 am]

BILLING CODE 4120-01-P